DEPARTMENT OF COMMERCE

National Oceanic and Atmospheric Administration

RIN 0648-XX41

Fisheries in the Western Pacific; American Samoa Pelagic Longline Limited Entry Program

AGENCY: National Marine Fisheries Service (NMFS), National Oceanic and Atmospheric Administration (NOAA), Commerce.

ACTION: Notice; availability of permits.

SUMMARY: NMFS is soliciting applications for American Samoa pelagic longline limited entry permits. At least ten permits of various class sizes will be available for 2010. This notice is intended to announce the availability of permits and to solicit applications for the permits.

DATES: Completed permit applications must be received by NMFS by November 12, 2010.

ADDRESSES: Request blank application forms from NMFS Pacific Islands Region (PIR), 1601 Kapiolani Blvd., Suite 1110, Honolulu, HI 96814-4733, or the PIR website www.fpir.noaa.gov.

Mail completed applications and payment to NMFS PIR, ATTN: ASLE Permits, 1601 Kapiolani Blvd., Suite 1110, Honolulu, HI 96814-4733.

FOR FURTHER INFORMATION CONTACT: Walter Ikehara, Sustainable Fisheries, NMFS PIR, tel 808-944-2275, fax 808-973-2940, or e-mail PIRO-permits@noaa.gov.

SUPPLEMENTARY INFORMATION: Federal regulations at 50 CFR 665.816 allow NMFS to issue new permits for the American Samoa pelagic longline limited entry program if the number of permits in a size class falls below the maximum allowed. At least 10 permits are available for issuance (note that the number of available permits may change before the application period closes): four in Class A (vessels less than or equal to 40 ft (12.2 m), five in Class B (over 40 ft (12.2 m) through 50 ft (15.2 m)), and one in Class D (over 70 ft (21.3 m)).

Persons with the earliest documented participation in the fishery on a Class A sized vessel will receive the highest priority for obtaining permits in any size class, followed by persons with the earliest documented participation in Classes B, C, and D, in that order. If there is a tie in priority, the person with the second earliest documented participation will be ranked higher in priority.

Complete applications must include the completed and signed application form, legible copies of documents supporting historical participation in the American Samoa pelagic longline fishery, and payment for the non-refundable application processing fee, in accordance with the regulations at 50 CFR 665.13. Applications must be received by NMFS (see ADDRESSES) by November 12, 2010 to be considered for a permit; applications will not be accepted if received after that date.Authoritative additional information on the American Samoa limited entry program may be found in 50 CFR part 665.

Authority: 16 U.S.C. 1801 et seq.

Dated: July 9, 2010.
Emily H. Menashes,
Acting Director, Office of Sustainable Fisheries, National Marine Fisheries Service.

[FR Doc. 2010-17296 Filed 7-14-10; 8:45 am]

BILLING CODE 3510-22-S